DEPARTMENT OF COMMERCE

International Trade Administration

[A-552-851]

Notice of Amended Final Results of Antidumping Duty Administrative Review: Certain Frozen Fish Fillets from the Socialist Republic of Vietnam

AGENCY: Import Administration, International Trade Administration, Department of Commerce.

SUMMARY: On March 21, 2007, the Department of Commerce (the “Department”) published in the Federal Register the final results of the second administrative review of the antidumping duty order on certain frozen fish fillets from the Socialist Republic of Vietnam (“Vietnam”). See Notice of Final Results of the Second Administrative Review: Certain Frozen Fish Fillets and Socialist Republic of Vietnam, 72 FR 13242 (March 21, 2007) and accompanying Issues and Decision Memorandum (“Final Results”). The period of review (“POR”) covered August 1, 2004, through July 31, 2005. We are amending our Final Results to correct ministerial errors made in the calculation of the antidumping duty margin for QVD Food Company (“QVD”), pursuant to section 751(h) of the Tariff Act of 1930, as amended (the “Act”).

EFFECTIVE DATE: May 1, 2007.

FOR FURTHER INFORMATION CONTACT: Julia Hancock, AD/CVD Operations, Office 9, Import Administration, International Trade Administration, U.S. Department of Commerce, 14th Street and Constitution Avenue NW, Washington, DC 20230; telephone: (202) 482-1394.

SUPPLEMENTARY INFORMATION:

Background

On March 21, 2007, the Department published the Final Results and corresponding issues and decision memorandum. See Memorandum from Stephen J. Claeys, Deputy Assistant Secretary for Import Administration, to David M. Spooner, Assistant Secretary for Import Administration, Subject: Issues and Decision Memorandum for the Second Administrative Review of Certain Frozen Fish Fillets from the Socialist Republic of Vietnam (“Final Decision Memo”).

On March 19, 2007, QVD and the Catfish Farmers of America and individual U.S. catfish processors (“Petitioners”) filed timely allegations that the Department made various ministerial errors in the Final Results. On March 26, 2007, Petitioners filed rebuttal comments to ministerial error allegations submitted by QVD. No other interested party submitted ministerial error allegations.

Scope of Order

The product covered by this order is frozen fish fillets, including regular, shank, and strip fillets and portions thereof, whether or not breaded or marinated, of the species Pangasius Bocourti, Pangasius Hypophthalmus (also known as Pangasius Pangasius), and Pangasius Micronemus. Frozen fish fillets are lengthwise cuts of whole fish. The fillet products covered by the scope include boneless fillets with the belly flap intact (“regular” fillets), boneless fillets with the belly flap removed (“shank” fillets), boneless shank fillets cut into strips (“fillet strips/finger”), which include fillets cut into strips, chunks, blocks, skewers, or any other shape. Specifically excluded from the scope are frozen whole fish (whether or not dressed), frozen steaks, and frozen belly-flap nuggets. Frozen whole dressed fish are deheaded, skinned, and eviscerated. Steaks are bone-in, cross-section cuts of dressed fish. Nuggets are the belly-flaps.

The subject merchandise will be hereinafter referred to as frozen “basa” and “tra” fillets, which are the Vietnamese common names for these species of fish. These products are classifiable under tariff article codes 1604.19.4000¹, 1604.19.5000², 0305.59.4000³, 0304.29.6033⁴ (Frozen Fish Fillets of the species Pangasius including basa and tra) of the Harmonized Tariff Schedule of the United States (“HTSUS”).⁵ This order covers all frozen fish fillets meeting the above specification, regardless of tariff classification. Although the HTSUS subheading is provided for convenience and customs purposes, our written description of the scope of the order is dispositive.

¹ See Memorandum to the File, from Cindy Robinson, Senior Case Analyst, Office 9, Import Administration, Subject: Frozen Fish Fillets: Third Addition of Harmonized Tariff Number, (March 1, 2007). This HTUS went into effect on March 1, 2007.

² See Memorandum to the File, from Cindy Robinson, Senior Case Analyst, Office 9, Import Administration, Subject: Frozen Fish Fillets: Third Addition of Harmonized Tariff Number, (March 1, 2007). This HTUS went into effect on March 1, 2007.

³ See Memorandum to the File, from Cindy Robinson, Senior Case Analyst, Office 9, Import Administration, Subject: Frozen Fish Fillets: Second Addition of Harmonized Tariff Number, (February 2, 2007). This HTUS went into effect on February 1, 2007.

⁴ See Memorandum to the File, from Cindy Robinson, Senior Case Analyst, Office 9, Import Administration, Subject: Frozen Fish Fillets: Addition of Harmonized Tariff Number, (January 30, 2007). This HTUS went into effect on February 1, 2007.

⁵ Until July 1, 2004, these products were classifiable under tariff article codes 0304.20.60.30 (Frozen Catfish Fillets), 0304.20.60.96 (Frozen Fish Fillets, NESOI), 0304.20.60.43 (Frozen Freshwater Fish Fillets) and 0304.20.60.57 (Frozen Sole Fillets) of the HTSUS. Until February 1, 2007, these products were classifiable under tariff article code 0304.20.60.33 (Frozen Fish Fillets of the species Pangasius including basa and tra) of the HTSUS.

Ministerial Errors

A ministerial error is defined in section 751(h) of the Act and further clarified in 19 CFR 351.224(f) as “an error in addition, subtraction, or other arithmetic function, clerical error resulting from inaccurate copying, duplication, or the like, and any other similar type of unintentional error which the Secretary considers ministerial.”

After analyzing all interested parties' comments, we have determined, in accordance with 19 CFR 351.224(e), that ministerial errors existed in the calculations for QVD in the Final Results. Correction of these errors results in a change to QVD's final margin; however, the rate for the Vietnam-wide entity and Cataco remains unchanged. For a detailed discussion of these ministerial errors, as well as the Department's analysis, see Memorandum to James C. Doyle, Office Director, AD/CVD Operations, Office 9, through Alex Villanueva, Program Manager, AD/CVD Operations, Office 9, from Julia Hancock, Senior Case Analyst, AD/CVD Operations, Office 9, Subject: Analysis of Ministerial Error Allegations, (April 19, 2007) (“Ministerial Error Allegation Memorandum”). The Ministerial Error Allegation Memorandum is on file in the Central Records Unit, room B-099 in the main Department building.

Therefore, in accordance with section 751(h) of the Act and 19 CFR 351.224(e), we are amending the Final Results of the administrative review of certain frozen fish fillets from Vietnam. The revised weighted-average dumping margins are detailed below. For company-specific calculations, please see Memorandum from Julia Hancock, Senior Case Analyst, through Alex Villanueva, to the File, Subject: Analysis Memorandum for the Amended Final Results for QVD, (April 19, 2007) (“QVD Amended Final Memo”). The revised final weighted-average dumping margins are as follows:

Certain Frozen Fish Fillets from Vietnam
Manufacturer/Exporter | Weighted-Average Margin (Percent)⁶
QVD | 15.01
Cataco | 80.88
Vietnam-Wide Entity⁷ | 63.88
⁶ The Department notes that, in the Final Results, the Department stated that it was changing its cash deposit and assessment methodology from an ad valorem to a per-unit basis. See Final Results, 71 FR 13242 at Comment 6. However, because the respective per-unit cash deposit rate for QVD and Cataco are business proprietary information, the Department cannot disclose these cash deposit rates in this notice. See QVD Amended Final Memo, (April 19, 2007) at 2; Memorandum to the File, through Alex Villanueva, Program Manager, from Julia Hancock, Case Analyst, Subject: Cataco's Per-Unit Cash Deposit Rate, (April 19, 2007) ("Cataco Memo") at 2 for further discussion.
⁷ The Vietnam-wide Entity includes Can Tho Animal Fishery Products Processing Export Enterprise (“Cafatex”), Mekong Fish Company (“Mekonimex”), Nam Viet Company, Ltd. (“Navico”), Phan Quan Trading Co., Ltd. (“Phan Quan”), An Giang Agriculture Technology Service Company (“ANTESCO”), Anhaco, Binh Dinh Import Export Company (“Binh Dinh”), Vinh Long Import-Export Company (“Vinh Long”), and An Giang Agriculture and Foods Import-Export Company (“Afiex”).

The Department shall determine, and U.S. Customs and Border Protection shall assess, antidumping duties on all appropriate entries based on the amended final results. For details on the assessment of antidumping duties on all appropriate entries, see Final Results.

These amended final results are published in accordance with sections 751(h) and 777(i)(1) of the Act.

Dated: April 19, 2007.
Joseph A. Spetrini,
Deputy Assistant Secretary for Import Administration.

[FR Doc. E7-8282 Filed 4-30-07; 8:45 am]

BILLING CODE: 3510-DS-S